DEPARTMENT OF COMMERCE

National Oceanic and Atmospheric Administration

Proposed Information Collection; Comment Request; North Pacific Groundfish Observer Program Vessel/Plant Operator's Comment Form

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before June 16, 2006.

ADDRESSES: Direct all written comments to Diana Hynek, Departmental Paperwork Clearance Officer, Department of Commerce, Room 6625, 14th and Constitution Avenue, NW., Washington, DC 20230 (or via the Internet at (dHynek@doc.gov).

FOR FURTHER INFORMATION CONTACT: Requests for additional information or copies of the information collection instrument and instructions should be directed to Jerald D. Berger, 206-526-4193 or jerry.berger@noaa.gov.

SUPPLEMENTARY INFORMATION:

I. Abstract

The National Marine Fisheries Service (NMFS) North Pacific Groundfish Observer Program (NPGOP) is managed by the Fisheries Monitoring and Analysis Division at the Alaska Fisheries Science Center (AFSC). NPGOP observers serve aboard commercial fishing vessels in Alaskan waters and at processing plants in Alaska as required by the Magnuson-Stevens Fishery Conservation and Management Act and the Marine Mammal Protection Act.

NMFS AFSC requests information from vessel or plant operators who have had NPGOP observers on their vessels or at their plants. This information would be collected on a voluntary basis as a qualitative survey to provide NMFS with direct feedback on observer performance. This information, upon receipt, will ensure higher data quality, provide feedback on observer performance, and offer a direct line of communication from vessel/plant operators to the NPGOP management.

II. Method of Collection

Paper survey to be submitted to the NPGOP at the AFSC via U.S. mail or facsimile transmission of paper forms. The survey will also be available on the Internet.

III. Data

OMB Number: None.

Form Number: None.

Type of Review: Regular submission.

Affected Public: Not-for-profit institutions; and business or other for-profit organizations.

Estimated Number of Respondents: 300.

Estimated Time Per Response: 15 minutes.

Estimated Total Annual Burden Hours: 75 hours.

Estimated Total Annual Cost to Public: $30.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 11, 2006.
Gwellnar Banks,
Management Analyst, Office of the Chief Information Officer.

[FR Doc. E6-5627 Filed 4-14-06; 8:45 am]

BILLING CODE 3510-22-P